DEPARTMENT OF LABOR

Office of the Secretary

Submission for OMB Review: Comment Request

February 20, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: John Kraemer, OMB Desk Officer for the Mine Safety and Health Administration (MSHA), Office of Management and Budget, 725 17th Street, NW., Room 10235, Washington, DC 20503, Telephone: 202-395-4816/ Fax: 202-395-6974 (these are not toll-free numbers), E-mail: OIRA_submission@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title: Mine Accident, Injury & Illness Report and Quarterly Mine Employment and Coal Production Report (30 CFR 50.10; 50.11; 50.20; and 50.30).

OMB Control Number: 1219-0007.

Form Number: MSHA-7000-1 and MSHA-7000-2.

Estimated Number of Respondents: 22,295.

Estimated Total Annual Burden Hours: 270,666.

Estimated Total Annual Cost Burden: $31,993.

Affected Public: Private Sector: Business or other for-profit (Mines).

Description: The reporting and recordkeeping provisions in 30 CFR part 50, Notification, Investigation, Reports and Records of Accidents, Injuries and Illnesses, Employment and Coal Production in Mines, are essential elements in MSHA's Congressional mandate to reduce work-related injuries and illnesses among the nation's miners. See section 103 of the Federal Mine Safety and Health Act of 1977.

Section 50.10 requires mine operators and mining contractors to immediately notify MSHA in the event of an accident. This immediate notification is critical to MSHA's timely investigation and assessment of the probable cause of the accident.

Section 50.11 requires that the operator or contractor investigate each accident and occupational injury and prepare a report. The operator or contractor may not use MSHA Form 7000-1 as a report, unless the mine employs fewer than 20 miners and the occurrence involves an occupational injury not related to an accident.

Section 50.20(a) requires mine operators and mining contractors to report each accident, injury, or illness to MSHA on Form 7000-1 within 10 working days after an accident or injury has occurred or an occupational illness has been diagnosed. The use of MSHA Form 7000-1 provides for uniform information gathering across the mining industry.

Section 50.30(a) requires mine operators and independent contractors working on mine property to report quarterly employment and coal production to MSHA on Form 7000-2. MSHA tabulates and analyzes the information from MSHA Form 7000-1, along with data from MSHA Form 7000-2, Quarterly Mine Employment and Coal Production Report to compute incidence and severity rates for various injury types. These rates are used to analyze trends and to assess the degree of success of the health and safety efforts of MSHA and the mining industry.

Accident, injury, and illness data, when correlated with employment and production data, provide information that allows MSHA to improve its safety and health enforcement programs, focus its education and training efforts, and establish priorities for its technical assistance activities in mine safety and health. Maintaining a current database allows MSHA to identify and direct increased attention to those mines, industry segments, and geographical areas where hazardous trends are developing. This could not be done effectively utilizing historical data. The information collected under Part 50 is the most comprehensive and reliable occupational data available concerning the mining industry.

Data collected through MSHA Form 7000-1 and MSHA Form 7000-2 enable MSHA to publish timely quarterly and annual statistics, reflecting current safety and health conditions in the mining industry. The data gathered from this collection provides MSHA with the figures upon which to base its incidence rate calculations and trend analyses. These data are used not only by MSHA, but also by other Federal and State agencies, health and safety researchers, and the mining community to assist in measuring and comparing the results of health and safety efforts both in the United States and internationally.

MSHA also uses this information to target its inspection and assistance activities toward those mines, industry segments, and geographical areas which the current data demonstrate as having particular problems. Injury rates must be computed at least quarterly for MSHA to target its enforcement and assistance resources. Less frequent data collection would neither be timely nor statistically valid for this purpose.

The mining industry uses this quarterly injury incidence data in its efforts to reduce injuries and illnesses. MSHA's compilations are the only source of information which permit a particular mining operation to compare its record with that of similar mines. Coal production data are used in various analyses that range from a comparative nature to complex modeling—such as the Cost of Injury Model developed through research. Additionally, this information impacts the evaluation and review of MSHA's regulations, the development of new safety and health standards, and the evaluation of MSHA's programs. For additional information, see related notice published at 72 FR 70348 on December 11, 2007.

Agency: Mine Safety and Health Administration.

Type of Review: Extension without change of currently approved collection.

Title: Qualification/Certification Program and Man Hoist Operators Physical Fitness.

OMB Number: 1219-0127.

Form Number: MSHA-5000-41.

Estimated Number of Respondents: 1,721.

Estimated Total Annual Burden Hours: 15,355.

Estimated Total Annual Cost Burden: $8,047.

Affected Public: Private Sector: Business or other for-profit (Mines).

Description: Title 30 CFR 75.159 and 77.106 require coal mine operators to maintain a list of persons who are certified and those who are qualified to perform duties which require specialized expertise at underground and surface coal mines, i.e., conduct examinations for hazardous conditions, conduct tests for methane and oxygen deficiency, conduct tests of air flow, perform electrical work, repair energized surface high-voltage lines, and perform duties of hoisting engineer. The recorded information is necessary to ensure that only persons who are properly trained and have the required number of years of experience are permitted to perform these duties. MSHA does not specify a format for the recordkeeping; however, it normally consists of the names of the certified and qualified persons listed in two columns on a sheet of paper. One column is for certified persons and the other is for qualified persons.

Sections 75.100 and 77.100 pertain to the certification of certain persons to perform specific examinations and tests. Sections 75.155 and 77.105 outline the requirements necessary to be qualified as a hoisting engineer or hoist man. Also, under §§ 75.160, 75.161, 77.107 and 77.107-1, the mine operator must have an approved training plan developed to train and retrain the qualified and certified people to effectively do their tasks.

These regulations recognize State certification and qualification programs. However, where State programs are not available, MSHA may certify and qualify persons. The MSHA program will continue to qualify or certify individuals as long as these individuals meet the requirements for certification or qualification, fulfill any applicable retraining requirements, and remain employed at the same mine or by the same independent contractor.

Applications for Secretarial qualification or certification are submitted to the MSHA Qualification and Certification Unit in Denver, Colorado. MSHA Form 5000-41 provides the coal mining industry with a standardized reporting format that expedites the certification and qualification process while ensuring compliance with the regulations.

MSHA uses the Form's information to determine if applicants satisfy the requirements to obtain the certification or qualification sought. Persons must meet certain minimum experience requirements depending on the type of certification or qualification.

The information is used by the mine operator and MSHA enforcement personnel to determine whether certified and qualified persons, who are properly trained, are conducting tests or examinations, and operating hoisting equipment.

Form 5000-41 allows mining operators to report to MSHA the names of persons who have satisfactorily completed required mine foreman and hoisting training. MSHA uses the information to issue certification/qualification cards to those persons who are certified/qualified.

Mine operators also use the Form to submit an application to certify miners to perform specific required examinations and tests, or to qualify miners as hoisting engineers or hoist men, in States without certification programs. The Qualification and Certification Unit then mails the applicant a certificate. This certification satisfies the law where State certification programs are not available. For additional information, see related notice published at 72 FR 70349 on December 11, 2007.

Darrin A. King,
Acting Departmental Clearance Officer.

[FR Doc. E8-3639 Filed 2-26-08; 8:45 am]

BILLING CODE 4510-43-P